DEPARTMENT OF JUSTICE

[OMB Number 1110-0005]

Agency Information Collection Activities; Proposed eCollection eComments Requested; Extension of a Previously Approved Collection; ASRE of Persons Arrested Under 18 Years of Age; ASRE of Persons Arrested 18 Years of Age and Over

AGENCY: Federal Bureau of Investigation, Department of Justice.

ACTION: 60-day notice.

SUMMARY: The Federal Bureau of Investigation (FBI), Criminal Justice Information Services Division, Department of Justice (DOJ), will be submitting the following information collection request to the Office of Management and Budget (OMB) for review and approval in accordance with the Paperwork Reduction Act of 1995.

DATES: Comments are encouraged and will be accepted for 60 days until November 14, 2023.

FOR FURTHER INFORMATION CONTACT: If you have additional comments especially on the estimated public burden or associated response time, suggestions, or need a copy of the proposed information collection instrument with instructions or additional information, please contact Edward L. Abraham, Crime and Law Enforcement Statistics Unit Chief, FBI, CJIS Division, Module D-1, 1000 Custer Hollow Road, Clarksburg, West Virginia 26306; telephone number: 304-625-4830, email: elabraham@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under the Uniform Federal Crime Reporting Act of 1988, 34 United States Code 41303; the William Wilberforce Trafficking Victims Protection Reauthorization Act of 1988, 34 U.S.C. 41309; and 28 Code of Federal Regulations 0.85(f), FBI, General Functions, this collection requests the number of arrests from federal, state, county, city, tribal, and territorial LEAs in order for the FBI's Uniform Crime Reporting (UCR) Program to obtain ASRE data in furtherance of serving as the national clearinghouse for the collection and dissemination of criminal statistics and to publish these statistics.

Overview of This Information Collection

1. Type of Information Collection: Extension of a previously approved collection.

2. The Title of the Form/Collection: ASRE of Persons Arrested Under 18 Years of Age; ASRE of Persons Arrested 18 Years of Age and Over.

3. The agency form number, if any, and the applicable component of the Department sponsoring the collection: The form numbers are 1-708a and 1-708. The applicable component within DOJ is the CJIS Division, FBI.

4. Affected public who will be asked or required to respond, as well as the obligation to respond: Affected Public: State, local and tribal governments, Federal Government. The obligation to respond is mandatory per 28 Code of Federal Regulations 0.85(f).

5. An estimate of the total number of respondents and the amount of time estimated for an average respondent to respond: There are approximately 4,800 LEA respondents submitting to the UCR Program monthly for an estimated total of 57,600 responses for each form. The estimated time it takes for an average respondent to respond is 15 minutes for form number 1-708 and 12 minutes for form number 1-708a (average of 13.5 minutes for the entire collection).

6. An estimate of the total annual burden (in hours) associated with the collection: There are approximately 25,920 hours annual burden hours for this information collection.

7. An estimate of the total annual cost burden associated with the collection, if applicable: $0.

Total Burden Hours
Activity | Number of respondents | Frequency | Total annual responses | Time per response (min) | Total annual burden (hours)
1-708a | 4,800 | 12 | 57,600 | 15 | 14,400
1-708 | 4,800 | 12 | 57,600 | 12 | 11,520
Unduplicated Totals | 4,800 |  | 57,600 |  | 25,920

If additional information is required contact: Darwin Arceo, Department Clearance Officer, United States Department of Justice, Justice Management Division, Policy and Planning Staff, Two Constitution Square, 145 N Street NE, 4W-218, Washington, DC.

Dated: September 5, 2023.
Darwin Arceo,
Department Clearance Officer for PRA, U.S. Department of Justice.

[FR Doc. 2023-19945 Filed 9-14-23; 8:45 am]

BILLING CODE 4410-02-P